SOCIAL SECURITY ADMINISTRATION

[Docket No. SSA-2013-0021]

Finding Regarding Foreign Social Insurance or Pension System—Kosovo

AGENCY: Social Security Administration (SSA).

ACTION: Notice of Finding Regarding Foreign Social Insurance or Pension System—Kosovo.

Finding: Section 202(t)(1) of the Social Security Act (42 U.S.C. 402(t)(1)) prohibits payment of monthly benefits to any individual who is not a United States citizen or national for any month after he or she has been outside the United States for 6 consecutive months. This prohibition does not apply to such an individual where one of the exceptions described in section 202(t)(2) through 202(t)(5) of the Social Security Act (42 U.S.C. 402(t)(2) through 402(t)(5)) affects his or her case.

Section 202(t)(2) of the Social Security Act provides that, subject to certain residency requirements of Section 202(t)(11), the prohibition against payment shall not apply to any individual who is a citizen of a country which the Commissioner of Social Security finds has in effect a social insurance or pension system which is of general application in such country and which:

(a) Pays periodic benefits, or the actuarial equivalent thereof, on account of old age, retirement, or death; and

(b) Permits individuals who are United States citizens but not citizens of that country and who qualify for such benefits to receive those benefits, or the actuarial equivalent thereof, while outside the foreign country regardless of the duration of the absence.

The Commissioner of Social Security has delegated the authority to make such a finding to the Associate Commissioner of the Office of International Programs. Under that authority, the Associate Commissioner of the Office of International Programs has approved a finding that Kosovo, beginning February 18, 2008 has a social insurance or pension system of general application in effect which pays periodic benefits, or the actuarial equivalent thereof, on account of old age, retirement, or death, but that under this social insurance or pension system, citizens of the United States citizens who are not citizens of Kosovo and who leave Kosovo, are not permitted to receive such benefits, or their actuarial equivalent, at the full rate without qualification or restriction while outside Kosovo.

Accordingly, it is hereby determined and found that Kosovo has in effect, beginning February 18, 2008, a social insurance or pension system which meets the requirements of section 202(t)(2)(A) of the Social Security Act (42 U.S.C. 402(t)(2)(A), but not the requirements of section 202(t)(t)(2)(B) of the Act (42 U.S.C. 402(t)(2)(B).

This finding also affects the application of subparagraphs (A) and (B) of section 202(t)(4) of the Social Security Act (42 U.S.C. 402(t)(4)(A) and (B)). That section provides that subject to certain residency requirements in section 202(t)(11), section 202(t)(1) shall not apply to the benefits payable on the earnings record of an individual who has 40 quarters of coverage under Social Security or who has resided in the United States for a period or periods aggregating 10 years or more. However, the provisions of subparagraphs (A) and (B) of section 202(t)(4) shall not apply to an individual who is a citizen of a foreign country that has in effect a social insurance or pension system which is of general application in such country and which satisfies the provisions of subparagraph (A) of section 202(t)(2), but not subparagraph (B) of section 202(t)(2).

By virtue of the finding with respect to section 202(t)(2) herein, the provisions of subparagraphs (A) and (B) of sections 202(t)(4) do not apply to citizens of Kosovo beginning February 18, 2008.

FOR FURTHER INFORMATION CONTACT: Donna Powers, 3700 Robert Ball Building, 6401 Security Boulevard, Baltimore, MD 21235-6401, (410) 965-3558.

(Catalog of Federal Domestic Assistance: Program Nos. 96.001 Social Security—Disability Insurance; 96.002 Social Security—Retirement Insurance; 96.004 Social Security—Survivors Insurance)

Dated: May 9, 2013.
Vance Teel,
Associate Commissioner, Office of International Programs.

[FR Doc. 2013-11461 Filed 5-14-13; 8:45 am]

BILLING CODE 4191-02-P